NATIONAL SCIENCE FOUNDATION

Sunshine Act Meetings

The National Science Board's (NSB) Committee on Oversight (CO) hereby gives notice of the scheduling of a videoconference for the transaction of National Science Board business pursuant to the National Science Foundation Act and the Government in the Sunshine Act.

TIME AND DATE: Thursday, May 15, 2025, from 11:30 a.m.-12:30 p.m. eastern.

PLACE: The meeting will be held by videoconference through the National Science Foundation, 2415 Eisenhower Avenue, Alexandria, VA 22314. Members of the public can observe this meeting through YouTube livestream. The YouTube link is: https://www.youtube.com/watch?v=CJYzMMZR9Sk.

STATUS: Open.

MATTERS TO BE CONSIDERED: Committee Chair's opening remarks and approval of previous committee minutes; discussion of the draft Overview to the Merit Review Digests for FY 2022 and 2023 and vote; Discussion of draft Semiannual Report from the Office of the Inspector General and NSF Management Response and vote; Review of Chief Financial Officer's Report; and Committee Chair's closing remarks.

CONTACT PERSON FOR MORE INFORMATION: Point of contact for this meeting is Chris Blair, cblair@nsf.gov, 703/292-7000.

Ann E. Bushmiller,
Senior Counsel to the National Science Board.

[FR Doc. 2025-08613 Filed 5-12-25; 11:15 am]

BILLING CODE 7555-01-P